DEPARTMENT OF COMMERCE

International Trade Administration

[A-570-504]

Petroleum Wax Candles From the People's Republic of China: Notice of Extension of Time Limit of Final Results of Antidumping Duty Administrative Review

AGENCY: Import Administration, International Trade Administration, Department of Commerce.

SUMMARY: The Department of Commerce is extending the time limit for the final results of the administrative review of petroleum wax candles from the People's Republic of China (PRC) until no later than March 8, 2004. The period of review is August 1, 2001 through July 31, 2002. This extension is made pursuant to section 751(a)(3)(A) of the Tariff Act of 1930, as amended (the Act).

EFFECTIVE DATE: December 17, 2003.

FOR FURTHER INFORMATION CONTACT: Mark Hoadley, Office of AD/CVD Enforcement VII, Import Administration, International Trade Administration, U.S. Department of Commerce, 14th Street and Constitution Avenue, N.W., Washington D.C. 20230; telephone: (202) 482-3148.

SUPPLEMENTARY INFORMATION:

Background

On August 28, 1986, the Department of Commerce (the Department) published the antidumping duty order on petroleum wax candles from the PRC (51 FR 30686). On August 6, 2002, the Department published an opportunity to request an administrative review of the order (67 FR 50856) for the period August 1, 2001 through July 31, 2002. The Department received timely requests from Dongguan Fay Candle Co., Ltd. (Fay Candle), a PRC producer and exporter of subject merchandise, and its U.S. importers, TIJID, Inc. (TIJID) (d/b/a DIJIT Inc.), and Palm Beach Home Accents, Inc.(Palm Beach); Wal-Mart Stores, Inc. (Wal-Mart); Qingdao Kingking Applied Chemistry Co., Ltd. (Qingdao Kingking); and petitioner, the National Candle Association (NCA), to conduct an administrative review of the antidumping duty order on petroleum wax candles from the PRC for 108 companies. On September 25, 2002, the Department published its Notice of Initiation of Antidumping and Countervailing Duty Administrative Reviews, Requests for Revocation in Part and Deferral of Administrative Review, 67 FR 60210. On March 26, 2003, the Department extended the due date for the preliminary results of this review (68 FR 14578). On September 9, 2003, the Department published the preliminary results of this review (68 FR 53109).

Extension of Time Limit for Final Results

Pursuant to section 751(a)(3)(A) of the Act, the Department may extend the deadline for completion of the final results of an administrative review if it determines that it is not practicable to complete the final results within the statutory time limit of 120 days from the date on which the preliminary results were published. The Department has determined that it is not practicable to complete the final results of this review within the statutory time limit. During the course of this review, numerous issues have been raised, including a possible affiliation between Fay Candle and its U.S. importers and a discrepancy between Qingdao Kingking's reported sales and Customs data, among others. Due to the complexity of the issues involved, it is not practicable to complete this review within the time limits mandated by section 751(a)(3)(A) of the Act and section 19 CFR 351.213(h)(1) of the Department's regulations.

Therefore, the Department is extending the time limit for the final results by 60 days (180 days from the date of publication of the preliminary results pursuant to section 19 CFR 351.213(h)(2)), until no later than March 8, 2004 (the calculated due date is March 7, 2004; however, since March 7, falls on a weekend, the due date will fall on the next business day, March 8). This notice is published in accordance with section 751(1)(3)(A) of the Act and section 19 CFR 351.213(h)(2) of the Department's regulations.

Dated: December 2, 2003.
Barbara E. Tillman,
Acting Deputy Assistant Secretary for Import Administration, Group III.

[FR Doc. 03-31130 Filed 12-16-03; 8:45 am]

BILLING CODE 3510-DS-S